DEPARTMENT OF DEFENSE

Office of the Secretary

[Transmittal No. 23-0K]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0K.

Dated: November 1, 2024.
Stephanie J. Bost,
Alternate OSD Federal Register Liaison Officer, Department of Defense.

BILLING CODE 6001-FR-P

BILLING CODE 6001-FR-C

Transmittal No. 23-0K

REPORT OF ENHANCEMENT OR UPGRADE OF SENSITIVITY OF TECHNOLOGY OR CAPABILITY (SEC. 36(B)(5)(C), AECA)

(i) Purchaser: Government of Bahrain

(ii) Sec. 36(b)(1), AECA Transmittal No.: 16-59

Date: September 8, 2017

Implementing Agency: Air Force

Funding Source: National Funds

(iii) Description: On September 8, 2017, Congress was notified by congressional certification transmittal number 16-59 of the possible sale under Section 36(b)(1) of the Arms Export Control Act of the possible upgrade of Bahrain's existing twenty (23) F-16 Block 40 aircraft to the F-16V configuration. The requested sale was comprised of twenty-three (23) F110 GE-129 engines (includes 3 spares); twenty-three (23) APG-83 Active Electronically Scanned Array Radars (includes 3 spares); twenty-three (23) Modular Mission Computers (includes 3 spares); twenty-three (23) Embedded Global Navigation Systems/LN260 EGI (includes 3 spares); forty (40) LAU-129 launchers; twenty-three (23) Improved Programmable Display Generators (iPDGs) (includes 3 spares); twenty-five (25) AN/AAQ-33 SNIPER Pods; two (2) AIM-9X Sidewinder Missiles; two (2) AGM-88 High-Speed Anti-Radiation Missiles (HARM); two (2) WGU-43 Guidance Control Unit (GBU) Guidance Control Unit (GCU) (for GBU-24 Paveway III); two (2) BSU-84 Air Foil Group (AFG) (for GBU-24 Paveway III); five (5) KMU-572 Joint Direct Attack Munition (JDAM) Tailkits (for GBU-38 JDAM and GBU-54 Laser JDAM); two (2) GBU-39 Small Diameter Bombs (SDB) Guided Test Vehicles (GTV); two (2) AGM-84 Harpoon Missiles; three (3) MAU-210 ECCG (for GBU-50 Enhanced Paveway II); three (3) BLU-109 Inert Bomb Bodies; four (4) MK-82/BLU-111 Inert Bomb Bodies; and two (2) FMU-152 or FMU-139 Fuzes. Also included were one (1) Joint Mission Planning System; one (1) F-16V simulator; twenty (20) AN/ALQ-211 AIDEWS Systems; one (1) avionics level test station; six (6) DB-110 Advanced Reconnaissance Systems; two (2) LAU-118A Launchers; forty-five (45) AN/ARC-238 SINCGARS Radio or equivalent; twenty-three (23) AN/APX126 Advanced Identification Friend or Foe (AIFF) systems or equivalent; twenty-three (23) cryptographic appliques; two (2) CATM-9L/M, two (2) AIM-120C-7 Advanced Medium Range Air-to-Air Missile (AMRAAM) Captive Air Training Missiles (CATM); three (3) MXU-651 AFG (for GBU-50 Enhanced Paveway II); four (4) DSU-38 Precision Laser Guidance sets (PLGS) (for GBU-54 Laser JDAM); four (4) AGM-154 Joint Stand-Off Weapon (JSOW) Captive Flight Vehicles (CFV); three (3) MK-84/BLU-117 Inert Bomb Bodies; two (2) FMU-152 D-1 Inert Fuzes; three (3) BRU-57 Bomb Racks; two (2) BRU-61 Bomb Racks for SDB; two (2) ADU-890 SDB adapter cable for CMBRE; two (2) ADU-891 AMRAAM/AIM-9X adapter cable for CMBRE; telemetry for all flight test assets secure communication equipment; spares and repair parts; support equipment; personnel training and training equipment; publications and technical documentation; U.S. Government and contractor technical support services; containers; missile support and test equipment; integration test; site survey; design; construction studies/analyses/services; associate operations, maintenance, training; support facilities; cybersecurity; critical computer resources support; force protection; and other related elements of logistics and program support. The estimated total cost was $1.082 billion. Major Defense Equipment (MDE) constituted $406 million of this total.

On September 28, 2018, Congress was notified by Congressional certification transmittal number 18-0C of the possible sale, under Section 36(b)(5)(C) of the Arms Export Control Act, of:

1. The inclusion of twenty-three (23) Multifunction Information Distribution System Joint Tactical Radio System (MIDS-JTRS) Concurrent Multi-Networking-4 (CMN-4) which are MDE;

2. The inclusion of an additional nineteen (19) AN/ALQ-211 Advanced Integrated Defensive Electronic Warfare Suite (AIDEWS) Systems (non-MDE), which will increase the number from twenty (20) to thirty-nine (39). These additional nineteen (19) were not included in the total value of the AIDEWS systems previously notified. This change was due to a change in system requirements and a desire to prioritize system components with long lead procurement timelines; and

3. The inclusion of additional test weapons quantities and MDE designations outlined below:

a. BLU-109—Increase from quantity of three (3) to four (4)

b. Bomb Practice GBU-39 Guided Test Vehicle (GTV)—MDE item not on original notification

c. MK-82 Inert Filled Bomb Body—Increase in quantity of four (4) to six (6)—MDE not on original notification

d. KMU-572 JDAM Tail Kit—Quantity of five (5) not included on original Congressional Notification and MDE designation not on original notification

e. MXU-650 Air Foil Group—Quantity of two (2) not included on original Congressional Notification and MDE designation not on original notification

f. MXU-651 Air Foil Group—MDE designation not on original notification

g. MAU-210 Enhanced Computer Control Group—Increase in quantity of three (3) to four (4) and MDE designation not on original notification. Also, correct that this MAU is for the GBU-49, not the GBU-50 as outlined in the original notification.

h. FMU-152—Quantity of six (6) not included on original Congressional Notification and MDE designation not on original notification.

These changes were due to unit pack minimum required quantities, items not properly identified as MDE on the original notification, and errors in requirements identification by the procuring office.

The inclusion of these MDE items did not increase the value of MDE beyond what was originally notified. The inclusion of AIDEWS caused the total case value to rise from $1.082 billion to $1.292 billion.

On October 1, 2019, Congress was notified by Congressional certification transmittal number 0T-19, under Section 36(b)(5)(A) of the Arms Export Control Act, of the inclusion of an additional five (5) AN/AAQ-33 SNIPER Pods, which increased the number from twenty-five (25) to thirty (30). These additional five (5) were not included in the total value of the SNIPER Pods previously notified. The addition of these items resulted in a net increase in cost of MDE of $11.6 million. The revised MDE total value was $417.6 million. The total case value remained $1.292 billion.

This transmittal notifies the following change in MDE items: the “twenty-three (23) Embedded Global Navigation Systems/LN260 EGI (includes 3 spares)” previously notified will be changed to “twenty-three (23) Embedded Global Navigation Systems/LN260 EGI (includes 3 spares) and/or EGI devices with M-code technology.” The following non-MDE items will also be included: MS-110 Reconnaissance Pod Retrofit Kits; additional spare parts and repair and return support; and additional integration, training, and sustainment equipment and support. The estimated total value of new MDE items is $7 million but will not result in a net increase in the total MDE cost. The total MDE value will remain $417.6 million. The total cost of added non-MDE items is $139 million. The total estimated case value will increase by $139 million to $1.431 billion.

(iv) Significance: This notification is being provided as the included replacement and additional items represent in an increase in capability over what was originally notified. The proposed sale increases Bahrain's F-16 fleet's reconnaissance capability and contributes to greater interoperability with the United States. Bahrain is upgrading its F-16 program as a deterrent to regional threats and to strengthen its homeland defense.

(v) Justification: This proposed sale will support the foreign policy and national security of the United States by helping to improve the security of a Major Non-NATO Ally in developing and maintaining a strong and ready self-defense capability. This proposed sale will enhance U.S. national security objectives in the region.

(vi) Sensitivity of Technology: The M-code capable Embedded Global Positioning System (GPS) Inertial Navigation System (INS) (EGI), with an embedded GPS Precise Positioning Service (PPS) Receiver Application Module-Standard Electronic Module (GRAM-S/M), is a self-contained navigation system that provides acceleration, velocity, position, attitude, platform azimuth, magnetic and true heading, altitude, body angular rates, time tags, and coordinated universal time (UTC) synchronized time. The embedded GRAM-S/M enables access to both the encrypted P(Y) and M-Code signals, providing protection against active spoofing attacks, enhanced military exclusivity, integrity, and anti-jam.

The MS-110 is a tactical reconnaissance pod with long-range, day/night, multi-spectral sensor technology. The multi-spectral sensor lets the end user see color and better distinguish subtle features than a DB-110 pod's dual band imagery. The pod can transmit imagery via a datalink to ground-stations for near real time analysis and exploitation. The MS-110 Retrofit Kit converts a DB-110 pod into an MS-110 pod.

The Sensitivity of Technology Statement contained in the original notification applies to additional items reported here.

The highest level of classification of defense articles, components, and services included in this potential sale is SECRET.

(vii) Date Report Delivered to Congress: September 6, 2023

[FR Doc. 2024-25765 Filed 11-5-24; 8:45 am]

BILLING CODE 6001-FR-P